DEPARTMENT OF HEALTH AND HUMAN SERVICES

[Document Identifier: OS-0990-New; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Written comments and recommendations for the proposed information collections must be received within 30 days of this notice directly to the OS OMB Desk Officer. All comments must be faxed to OMB at 202-395-6974.

Proposed Project: Evaluation of the Parents Speak-Up National Campaign: Youth Survey OMB No. 0990-New—Office of Adolescent Pregnancy Program.

Abstract: The Evaluation of the Parents Speak-Up National Campaign (PSUNC): Youth Survey is designed to evaluate the Parents Speak-Up National Campaign, a campaign designed to encourage parents to talk with their children about sexual activity. The campaign includes paid and public service announcement (PSA)-type spots, as well as a Web site, 4parents.gov. As the campaign aims to increase parent-child communication about sex, the purpose of this information collection is to measure youth self-reported communication with parents, their related attitudes and beliefs about sex, and determine whether their parents' exposure to PSUNC affects the youth reports of communication. Parents of the youth in this study are participating in an OMB-approved, randomized controlled study of the behavioral effects of PSUNC message exposure.

This collection is follow-up of youth aged 13-15 whose parents participated in the parent efficacy study for the campaign. We are requesting a 2 year clearance.

Estimated Annualized Burden Table
Forms | Type of respondent | Number of respondents | Number of responses per respondent | Average burden hours per response (in hours) | Total burden hours
Youth Survey | 13-15 year old youth | 760 | 1 | 20/60 | 253

Terry Nicolosi,
Office of the Secretary, Paperwork Reduction Act Reports Clearance Officer.

[FR Doc. E8-6398 Filed 3-27-08; 8:45 am]

BILLING CODE 4150-30-P